OFFICE OF THE UNITED STATES TRADE REPRESENTATIVE

Request for Comments Concerning Compliance With Telecommunications Trade Agreements

AGENCY: Office of the United States Trade Representative.

ACTION: Notice of request for public comment and reply comment.

SUMMARY: Pursuant to section 1377 of the Omnibus Trade and Competitiveness Act of 1988 (19 U.S.C. 3106) (“section 1377”), the Office of the United States Trade Representative (“USTR”) is reviewing and requests comments on: The operation, effectiveness, and implementation of and compliance with WTO agreements affecting market opportunities for telecommunications products and services of the United States; the telecommunications provisions of the North American Free Trade Agreement (“NAFTA”), the Chile, Singapore, and Australia Free Trade Agreements (“FTA”) and any other FTA coming into force on or before January 1, 2006; and other telecommunications trade agreements. The USTR will conclude the review by March 31, 2006.

DATES: Comments are due by noon on December 9, 2005 and Reply Comments by noon on January 6, 2006.

ADDRESSES: Gloria Blue, Executive Secretary, Trade Policy Staff Committee, ATTN: Section 1377 Comments, Office of the United States Trade Representative, 1724 F Street, NW., Washington, DC 20508.

FOR FURTHER INFORMATION CONTACT: Arrow Augerot, Office of Industry, Market Access, and Telecommunications (202) 395-6099; or Amy Karpel, Office of the General Counsel (202) 395-5804.

SUPPLEMENTARY INFORMATION: Section 1377 requires the USTR to review annually the operations and effectiveness of all U.S. trade agreements regarding telecommunications products and services of the United States that are in force with respect to the United States. The purpose of the review is to determine whether any act, policy, or practice of a country that has entered into a telecommunications trade agreement with the United States is inconsistent with the terms of such agreement or otherwise denies to U.S. firms, within the context of the terms of such agreements, mutually advantageous market opportunities. For the current review, the USTR seeks comments on:

(1) Whether any WTO member is acting in a manner that is inconsistent with its commitments under WTO agreements affecting market opportunities for telecommunications products and services, e.g., the WTO General Agreement on Trade in Services (“GATS”), including the Annex on Telecommunications and any scheduled commitments including the Reference Paper on Pro-Competitive Regulatory Principles;

(2) Whether Canada or Mexico has failed to comply with its telecommunications commitments or obligations under NAFTA;

(3) Whether Chile, Singapore, or Australia, or any other FTA partner with an Agreement that comes into force on or before January 1, 2006 has failed to comply with its telecommunications commitments or obligations under the respective FTA between the United States and that country (see http://www.ustr.gov/Trade_Agreements/Section_Index.html for U.S. FTAs);

(4) Whether other countries have failed to comply with their commitments under additional telecommunications agreements with the United States, e.g., Mutual Recognition Agreements (MRAs) for Conformity Assessment of Telecommunications Equipment (see http://www.tcc.mac.doc.gov for a collection of trade agreements, including ones related to telecommunications); and

(5) Whether there remain outstanding issues from previous section 1377 reviews on those countries or issues previously cited (see http://www.ustr.gov/Trade_Sectors/Telecom-E-commerce/Section_1377/Section_Index.html for the 2005 review);

Public Comment and Reply Comment: Requirements for Submission

All comments must be in English, identify on the first page of the comments the telecommunications trade agreement(s) discussed therein, and be submitted by noon on December 16, 2005. Reply comments must also be in English and be submitted by noon on January 13, 2006. Reply comments should only address issues raised by the comments.

In order to ensure the most timely and expeditious receipt and consideration of comments and reply comments, USTR has arranged to accept submissions in electronic format (e-mail). Comments should be submitted electronically to FR0502@ustr.eop.gov. An automatic reply confirming receipt of e-mail submission will be sent. E-mail submissions in Microsoft Word or Corel WordPerfect are preferred. If a word processing application other than those two is used, please include in your submission the specific application used. For any document submitted electronically containing business confidential information, the file name of the business confidential version should begin with the characters “BC”. Any page containing business confidential information must be clearly marked “BUSINESS CONFIDENTIAL” on the top of that page. Filers must also submit a public version of their comments. The file name of the public version should begin with the character “P”. The “BC” and “P” should be followed by the name of the person or entity submitting the comments or reply comments. Interested persons who make submissions electronically should not provide separate cover letters; rather, information that might appear in a cover letter should be included in the submission itself. Similarly, to the extent possible, any attachments to the submission should be included in the same file as the submission itself and not as separate files. All non-confidential comments and reply comments will be placed on the USTR Web site, http://www.USTR.gov, and in the USTR Reading Room for inspection shortly after the filing deadline, except business confidential information exempt from public inspection in accordance with 15 CFR 2003.6.

We strongly urge use of the electronic filing procedures, if at all possible. If an e-mail submission is impossible, 15 copies of both the business confidential and the public versions must be delivered via private commercial courier, and arrangements must be made with Ms. Blue prior to delivery for their receipt. Ms. Blue should be contacted at (202) 395-3475. Because comments and reply comments will be posted on USTR's Web site, those persons not availing themselves of electronic filing must submit their 15 copies with a diskette.

An appointment to review the comments may be made by calling the USTR Reading Room at (202) 395-6186. The USTR Reading Room is open to the public from 9:30 a.m. to 12 noon and from 1 p.m. to 4 p.m., Monday through Friday, and is located in Room 3 of 1724 F Street, NW.

Carmen Suro-Bredie,
Chair, Trade Policy Staff Committee.

[FR Doc. 05-22749 Filed 11-15-05; 8:45 am]

BILLING CODE 3190-W6-P